DEPARTMENT OF COMMERCE

National Oceanic and Atmospheric Administration

RIN 0648-BI59

Atlantic Highly Migratory Species; Amendment 14 to the 2006 Consolidated Atlantic Highly Migratory Species Fishery Management Plan

AGENCY: National Marine Fisheries Service (NMFS), National Oceanic and Atmospheric Administration (NOAA), Commerce.

ACTION: Notice of availability; request for comments.

SUMMARY: NMFS announces the availability of Draft Amendment 14 to the 2006 Consolidated Atlantic Highly Migratory Species (HMS) Fishery Management Plan (FMP). Draft Amendment 14 is being undertaken to revise the mechanism or “framework” used in establishing quotas and related management measures for Atlantic shark fisheries. The current framework was established in Amendment 3 to the 2006 Consolidated Atlantic HMS FMP. The revised framework would modify the procedures followed in establishing the acceptable biological catch (ABC) and annual catch limits (ACLs) for Atlantic sharks and the process used to account for carryover or underharvests of quotas. It would also allow the option to phase-in ABC catch control rules and to adopt multi-year overfishing status determination criteria in some circumstances. Amendment 14 will not make changes to the current quotas or other management measures. Such changes would be adopted through subsequent rulemaking.

DATES: Written comments must be received by December 31, 2020. NMFS will hold two operator-assisted public hearings via conference calls and webinars on Draft Amendment 14 in October and November 2020. For specific dates and times, see the SUPPLEMENTARY INFORMATION section of this document.

ADDRESSES: Electronic copies of Draft Amendment 14 to the 2006 Consolidated HMS FMP may be obtained on the internet at: https://www.fisheries.noaa.gov/action/amendment-14-2006-consolidated-hms-fishery-management-plan-shark-quota-management.

You may submit comments on this document, identified by NOAA-NMFS-2019-0040, via the Federal e-Rulemaking Portal. Go to www.regulations.gov, enter NOAA-NMFS-2019-0040 into the search box, click the “Comment Now!” icon, complete the required fields, and enter or attach your comments.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Guy DuBeck (Guy.DuBeck@noaa.gov), Ian Miller (Ian.Miller@noaa.gov), or Karyl Brewster-Geisz (Karyl.Brewster-Geisz@noaa.gov) by email, or by phone at (301) 427-8503.

SUPPLEMENTARY INFORMATION: The Magnuson-Stevens Act requires that any FMP or FMP amendment be consistent with 10 National Standards (NS). Specifically, NS1 requires “conservation and management measures shall prevent overfishing while achieving, on a continuing basis, the optimum yield from each fishery for the United States fishing industry.” In 2016, NMFS revised the NS1 guidelines to improve, streamline, and enhance their utility for managers and the public and to facilitate compliance with the requirements of the Magnuson-Stevens Act and provide management flexibility in doing so (81 FR 71858; October 18, 2016). The revisions addressed a range of issues, such as providing guidance on options to phase in changes to catch limits and carry over unused quota from one year to the next. In Draft Amendment 14, NOAA Fisheries is taking action to revise the mechanism or “framework” used in establishing quotas and related management measures in Atlantic shark fisheries, considering the revised guidance. The current framework was established in Amendment 3 to the 2006 Consolidated HMS FMP. The revised framework would incorporate for potential use several optional fishery management tools in the revised NS1 guidelines.

The revised NS1 guidelines have provided NMFS the opportunity to increase management flexibility to ensure scientific uncertainty is accurately accounted for and properly account for variability in shark harvests. NMFS has explored options to revise the management framework for Atlantic shark stocks and management complexes. Specifically, within Draft Amendment 14, NMFS has identified the following objectives:

• Optimize the ability for the commercial shark fishery to harvest available, science-based shark quotas, to the extent practicable, while also considering the fairness among sectors;

• Revise the ABC control rule methodology as established in Amendment 3 to increase accountability and transparency when implementing ABCs for shark fisheries, consistent with provisions in the revised NS1 guidelines;

• Revise the ACL framework to reflect changes in the ABC control rule methodology to ensure that effective ACLs are established for non-prohibited shark species, taking into account scientific uncertainty;

• Modify the process for accounting for and distributing quota underharvest or overharvest in the commercial sector ACLs;

• Increase management flexibility to react to and account for changes in the distribution of shark harvest among sectors; and

• Increase management flexibility to appropriately react to scientific uncertainties, changes in stock status, or changes in allowable harvest levels to ensure stability within the fishery.

NMFS published a notice of intent (NOI) to prepare an environmental impact statement (EIS) for Amendment 14 (84 FR 23014; May 21, 2019). NMFS prepared an Issues and Options paper on management options and held four scoping meetings to discuss scoping regarding Amendment 14. NMFS initially was prepared to undertake an EIS for Amendment 14 but determined after considering public comments, the structure of the Draft Amendment, and National Environmental Policy Act (NEPA) guidance that an EIS is not required for the Amendment. Amendment 14 will only establish the procedures to follow in setting the ABC, ACLs, and in accounting for carryover or underharvests of quotas. Amendment 14 will not make changes to the current quotas or other management measures. Any changes to ABCs, ACLs, quotas, or other measures would be made in future rulemakings, and would be informed by the appropriate NEPA analyses and public review.

In Draft Amendment 14, NMFS considers management options in order to revise the shark framework that established in Amendment 3. The management options being considered include modifying the ABC control rule, revising processes for the implementation of an ABC, and modifying carry-over and phase-in provisions and multi-year overfishing status determinations. A full description of the management options considered, including the preferred management options, are provided in Draft Amendment 14. Draft Amendment 14 does not consider any changes to management of the prohibited shark complex.

Public Hearings

NMFS will take into consideration public comments on Draft Amendment 14 before finalizing the preferred management options. The preferred management options may be altered or different management options may be adopted at the final Amendment stage. NMFS anticipates that Final Amendment 14 and its related documents would be available in 2021.

Comments on Draft Amendment 14 may be submitted via www.regulations.gov, and comments may also be submitted at the public hearings. NMFS solicits comments on this action by December 31, 2020. During the comment period, NMFS will hold two operator-assisted public hearings via conference calls and webinars (Table 1). In addition, NMFS will present to the HMS Advisory Panel to discuss this action. NMFS will announce the times of HMS Advisory Panel discussion in a future Federal Register notice.

Table 1—Dates and Times of Upcoming Webinars/Conference Calls
Venue | Date | Time | Instructions
Webinar | October 13, 2020 | 2-4 p.m. | Link: https://noaanmfs-meets.webex.com/noaanmfs-meets/j.php?MTID=mc9a709850a6b36f6bce20d4fe3921108. Meeting number: 199 057 6075. Password: 2utD84dRnPv. Join by phone: 1-415-527-5035. Access code: 199 057 6075.
Webinar | November 18, 2020 | 2-4 p.m. | Link: https://noaanmfs-meets.webex.com/noaanmfs-meets/j.php?MTID=m1eef6e3722eef5185452c5e4139a5fa7. Meeting number: 199 661 2520. Password: mMS2QWuuF43. Join by phone: 1-415-527-5035. Access code: 199 661 2520.

The public is reminded that NMFS expects participants at public webinars/conference calls to conduct themselves appropriately. At the beginning of each webinar/conference call, the moderator will explain how the webinar/conference call will be conducted and how and when participants can provide comments. NMFS representative(s) will structure the webinars so that all members of the public will be able to comment, if they so choose, regardless of the controversial nature of the subject(s). Participants are expected to respect the ground rules, and those that do not may be asked to leave the webinar/conference call.

Authority: 16 U.S.C. 971 et seq., and 1801 et seq.

Dated: September 18, 2020.
Samuel D. Rauch, III,
Deputy Assistant Administrator for Regulatory Programs, National Marine Fisheries Service.

[FR Doc. 2020-21086 Filed 9-23-20; 8:45 am]

BILLING CODE 3510-22-P